DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Mohave (FEMA Docket No.: B-2209) | Unincorporated areas of Mohave County (21-09-1303P). | The Honorable Buster D. Johnson, Chairman, Mohave County Board of Supervisors, P.O. Box 7000, Kingman, AZ 86402. | Mohave County Development Services Department, 3250 East Kino Avenue, Kingman, AZ 86402. | Apr. 21, 2022 | 480058
Colorado:
Arapahoe (FEMA Docket No.: B-2214) | City of Aurora (21-08-0331P). | The Honorable Mike Coffman, Mayor, City of Aurora, 15151 East Alameda Parkway, Aurora, CO 80012. | Public Works Department, 15151 East Alameda Parkway, Aurora, CO 80012. | Apr. 29, 2022 | 080002
Arapahoe (FEMA Docket No.: B-2214) | Unincorporated areas of Arapahoe County (21-08-0331P). | The Honorable Nancy N. Sharpe, Chair, Arapahoe County Board of Commissioners, 5334 South Prince Street, Littleton, CO 80120. | Arapahoe County Public Works and Development Department, 6924 South Lima Street, Centennial, CO 80112. | Apr. 29, 2022 | 080011
Florida:
Collier (FEMA Docket No.: B-2209) | City of Naples (21-04-4737P). | The Honorable Teresa Heitmann, Mayor, City of Naples, 735 8th Street South, Naples, FL 34102. | Building Department, 295 Riverside Circle, Naples, FL 34102. | Apr. 28, 2022 | 125130
Lee (FEMA Docket No.: B-2209) | City of Sanibel (21-04-4886P). | The Honorable Holly D. Smith, Mayor, City of Sanibel, 800 Dunlop Road, Sanibel, FL 33957. | Community Services Department, 800 Dunlop Road, Sanibel, FL 33957. | Apr. 22, 2022 | 120402
Leon (FEMA Docket No.: B-2209) | City of Tallahassee (20-04-5259P). | The Honorable John E. Dailey, Mayor, City of Tallahassee, 300 South Adams Street, Tallahassee, FL 32301. | Grow Management Department, 435 North Macomb Street, Tallahassee, FL 32301. | Apr. 22, 2022 | 120144
Leon (FEMA Docket No.: B-2209) | Unincorporated areas of Leon County (20-04-5259P). | Mr. Vincent S. Long, Leon County Administrator, 301 South Monroe Street, Tallahassee, FL 32301. | Leon County Emergency Management Department, 911 Easterwood Drive, Tallahassee, FL 32311. | Apr. 22, 2022 | 120143
Monroe (FEMA Docket No.: B-2209) | City of Marathon (21-04-5079P). | The Honorable John Bartus, Mayor, City of Marathon, 9805 Overseas Highway, Marathon, FL 33050. | Planning Department, 9805 Overseas Highway, Marathon, FL 33050. | Apr. 25, 2022 | 120681
Monroe (FEMA Docket No.: B-2209) | Unincorporated areas of Monroe County (21-04-5803P). | The Honorable David Rice, Mayor, Monroe County Board of Commissioners, 1100 Simonton Street, Key West, FL 33040. | Monroe County Building Department, 2798 Overseas Highway, Suite 300, Marathon, FL 33050. | Apr. 21, 2022 | 125129
Orange (FEMA Docket No.: B-2209) | City of Ocoee (21-04-4171P). | The Honorable Rusty Johnson, Mayor, City of Ocoee, 150 North Lakeshore Drive, Ocoee, FL 34761. | City Hall, 150 North Lakeshore Drive, Ocoee, FL 34761. | Apr. 20, 2022 | 120185
Polk (FEMA Docket No.: B-2209) | Unincorporated areas of Polk County (21-04-1105P). | Mr. Bill Beasley, Polk County Manager, 330 West Church Street, Bartow, FL 33831. | Polk County Land Development Division, 330 West Church Street, Bartow, FL 33831. | Apr. 21, 2022 | 120261
Sarasota (FEMA Docket No.: B-2214) | City of Sarasota (21-04-3619P). | The Honorable Erik Arroyo, Mayor, City of Sarasota, 1565 1st Street, Room 101, Sarasota, FL 34236. | Development Services Department, 1565 1st Street, Sarasota, FL 34236. | Apr. 29, 2022 | 125150
Sarasota (FEMA Docket No.: B-2209) | Unincorporated areas of Sarasota County (21-04-4033P). | The Honorable Alan Maio, Chairman, Sarasota County Board of Commissioners, 1660 Ringling Boulevard, Sarasota, FL 34236. | Sarasota County Planning and Development Services Department, 1001 Sarasota Center Boulevard, Sarasota, FL 34240. | Apr. 20, 2022 | 125144
Sarasota (FEMA Docket No.: B-2209) | Unincorporated areas of Sarasota County (22-04-1074P). | The Honorable Alan Maio, Chairman, Sarasota County Board of Commissioners, 1660 Ringling Boulevard, Sarasota, FL 34236. | Sarasota County Planning and Development Services Department, 1001 Sarasota Center Boulevard, Sarasota, FL 34240. | Apr. 27, 2022 | 125144
Georgia:
Bryan (FEMA Docket No.: B-2214) | Unincorporated areas of Bryan County (21-04-4473P). | The Honorable Carter Infinger, Chairman, Bryan County Board of Commissioners, 51 North Courthouse Street, Pembroke, GA 31321. | Bryan County Department of Engineering and Inspections, 51 North Courthouse Street, Pembroke, GA 31321. | Apr. 29, 2022 | 130016
Effingham (FEMA Docket No.: B-2216) | Unincorporated areas of Effingham County (20-04-5821P). | The Honorable Wesley Corbitt, Chairman at Large, Effingham County Board of Commissioners, 804 South Laurel Street, Springfield, GA 31329. | Effingham County Development Services Department, 804 South Laurel Street, Springfield, GA 31329. | Apr. 28, 2022 | 130076
Maine: York (FEMA Docket No.: B-2216) | Town of York (21-01-1032P). | The Honorable Todd A. Frederick, Chairman, Town of York Board of Selectmen, 186 York Street, York, ME 03909. | Building Department, 186 York Street, York, ME 03909. | Apr. 28, 2022 | 230159
Maryland: Wicomico (FEMA Docket No.: B-2209) | Unincorporated areas of Wicomico County (21-03-1512P). | Mr. John D. Psota, Acting Executive, Wicomico County, P.O. Box 870, Salisbury, MD 21803. | Wicomico County Department of Planning and Zoning, 125 North Division Street, Room 201, Salisbury, MD 21801. | Apr. 29, 2022 | 240078
Montana:
Missoula (FEMA Docket No.: B-2214) | City of Missoula (21-08-0878P). | The Honorable John Engen, Mayor, City of Missoula, 435 Ryman Street, Missoula, MT 59802. | City Hall, 435 Ryman Street, Missoula, MT 59802. | Apr. 27, 2022 | 300049
Missoula (FEMA Docket No.: B-2214) | Unincorporated areas of Missoula County (21-08-0878P). | The Honorable David Strohmaier, Chairman, Missoula County Board of Commissioners, 199 West Pine Street, Missoula, MT 59802. | Missoula County Community and Planning Services Department, 127 East Main Street, Missoula, MT 59802. | Apr. 27, 2022 | 300048
North Carolina:
Mecklenburg (FEMA Docket No.: B-2216) | Town of Davidson (21-04-5219P). | The Honorable Rusty Knox, Mayor, Town of Davidson, P.O. Box 579, Davidson, NC 20836. | Planning Department, 216 South Main Street, Davidson, NC 20836. | Apr. 27, 2022 | 370503
Mecklenburg (FEMA Docket No.: B-2216) | Unincorporated areas of Mecklenburg County (21-04-5219P). | Ms. Dena R Diorio, Mecklenburg County Manager, 600 East 4th Street, Charlotte, NC 28202. | Mecklenburg County Storm Water Services Division, 2145 Suttle Avenue, Charlotte, NC 28202. | Apr. 27, 2022 | 370158
North Dakota: Morton (FEMA Docket No.: B-2209) | City of Mandan (21-08-1142P). | The Honorable Tim Helbling, Mayor, City of Mandan, 205 2nd Avenue Northwest, Mandan, ND 58554. | Building Inspections Department, 205 2nd Avenue Northwest, Mandan, ND 58554. | Apr. 25, 2022 | 380072
Tennessee:
Sumner (FEMA Docket No.: B-2214) | City of Gallatin (21-04-1323P). | The Honorable Paige Brown, Mayor, City of Gallatin, 132 West Main Street, Gallatin, TN 37066. | City Hall, 132 West Main Street, Gallatin, TN 37066. | Apr. 22, 2022 | 470185
Sumner (FEMA Docket No.: B-2214) | Unincorporated areas of Sumner County (21-04-1323P). | The Honorable Anthony Holt, Mayor, Sumner County, 355 North Belvedere Drive, Gallatin, TN 37066. | Sumner County Building Department, 355 North Belvedere Drive, Gallatin, TN 37066. | Apr. 22, 2022 | 470349
Texas:
Tarrant (FEMA Docket No.: B-2209) | City of Fort Worth (21-06-1704P). | The Honorable Mattie Parker, Mayor, City of Fort Worth, 200 Texas Street, Fort Worth, TX 76102. | Transportation and Public Works Department, Engineering Vault, 200 Texas Street, Fort Worth, TX 76102. | Apr. 22, 2022 | 480596
Williamson (FEMA Docket No.: B-2209) | City of Round Rock (21-06-1842P). | The Honorable Craig Morgan, Mayor, City of Round Rock, 221 East Main Street, Round Rock, TX 78664. | Department of Utilities and Environmental Services, 3400 Sunrise Road, Round Rock, TX 78665. | Apr. 25, 2022 | 481048
Williamson (FEMA Docket No.: B-2209) | Unincorporated areas of Williamson County (21-06-1842P). | The Honorable Bill Gravell, Jr., Williamson County Judge, 710 South Main Street, Suite 101, Georgetown, TX 78626. | Williamson County Engineering Department, 3151 Southeast Inner Loop, Georgetown, TX 78626. | Apr. 25, 2022 | 481079
Virginia: Mathews (FEMA Docket No.: B-2209) | Unincorporated areas of Mathews County (22-03-0021P). | Mr. Sanford B. Wanner, Interim Administrator, Mathews County, P.O. Box 839, Mathews, VA 23109. | Mathews County Building Department, 50 Brickbat Road, Mathews, VA 23109. | Apr. 29, 2022 | 510096

[FR Doc. 2022-11680 Filed 5-31-22; 8:45 am]

BILLING CODE 9110-12-P